DEPARTMENT OF STATE

[Public Notice: 11253]

Notice of Department of State Sanctions Actions Blocking Property and Suspending Entry of Certain Persons Contributing to the Situation in Syria

SUMMARY: The Secretary of State has imposed sanctions on three individuals Blocking Property and Suspending Entry of Certain Persons Contributing to the Situation in Syria.

DATES: The Secretary of State's determination and selection of certain sanctions to be imposed upon the three individuals identified in the SUPPLEMENTARY INFORMATION section were effective on September 30, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 2(a) of E.O. 13894 of October 14, 2019, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in section 2(c) of E.O. 13894 upon determining that the person met any criteria set forth in section 2(a)(i)(A) or section 2(a)(ii) of E.O. 13894.

The Secretary of State has determined, pursuant to Section 2(a)(i)(A) of E.O. 13894, that Milad Jedid is responsible for or complicit in, has directly or indirectly engaged in, attempted to engage in, or financed, the obstruction, disruption, or prevention of a ceasefire in northern Syria.

The Secretary of State has determined, pursuant to Section 2(a)(ii) of E.O. 13894, that Nasreen Ibrahim and Rana Ibrahim are adult family members of a person designated under subsection (a)(i) of E.O. 13894.

Pursuant to Sections 2(b) and 2(c) of E.O. 13894, the Secretary of State has selected the following sanctions to be imposed upon Milad Jedid, Nasreen Ibrahim, and Rana Ibrahim:

• Block all property and interests in property that are in the United States, that hereafter come within the United States, or that are or hereafter come within the possession or control of any United States person of Milad Jedid, Nasreen Ibrahim, or Rana Ibrahim, and provide that such property and interests in property may not be transferred, paid, exported, withdrawn, or otherwise dealt in (Section 2(c)(iv) of E.O. 13894).

Peter D. Haas,
Principal Deputy Assistant Secretary, Bureau of Economic and Business Affairs, Department of State.

[FR Doc. 2020-27118 Filed 12-10-20; 8:45 am]

BILLING CODE 4710-07-P